DEPARTMENT OF AGRICULTURE

U.S. Codex Office

Codex Alimentarius Commission: Meeting of the Codex Committee on Residues of Veterinary Drugs in Foods

AGENCY: U.S. Codex Office, USDA.

ACTION: Notice of public meeting and request for comments.

SUMMARY: The U.S. Codex Office is sponsoring a public meeting on March 5, 2026. The objective of the public meeting is to provide information and receive public comments on agenda items and draft U.S. position to be discussed at the 28th Session of the Codex Committee on Residues of Veterinary Drugs in Foods (CCRVDF28) of the Codex Alimentarius Commission (CAC). CCRVDF28 will be held in Minneapolis, MN, from March 23-27, 2026. The U.S. Manager for Codex Alimentarius and the Under Secretary for Trade and Foreign Agricultural Affairs recognize the importance of providing interested parties the opportunity to obtain background information on the 28th Session of the CCRVDF and to address items on the agenda.

DATES: The public meeting is scheduled for March 5, 2026, from 1:00-3:00 p.m. ET.

ADDRESSES: The public meeting will take place via video teleconference only. Documents related to the 28th Session of the CCRVDF will be accessible via the internet at the following address: https://www.fao.org/fao-who-codexalimentarius/meetings/detail/en/?meeting=CCRVDF&session=28.

Dr. Jonathan Greene, U.S. Delegate to the 28th Session of the CCRVDF, invites interested U.S. parties to submit their comments electronically to the following email address: jonathan.greene1@fda.hhs.gov. Comments should state that they relate to the activities of the 28th Session of the CCRVDF.

Registration: Attendees may register to attend the public meeting at the following link: https://www.zoomgov.com/meeting/register/MdnmLIDfSXmt0JOkw1kBXw. After registering, you will receive a confirmation email containing information about joining the meeting.

For further information about the 28th Session of the CCRVDF, contact the U.S. Delegate, Dr. Jonathan Greene, by email at: jonathan.greene1@fda.hhs.gov. For additional information regarding the public meeting, contact the U.S. Codex Office by email at: uscodex@usda.gov.

SUPPLEMENTARY INFORMATION:

Background

The Codex Alimentarius Commission was established in 1963. Through adoption of food standards, codes of practice, and other guidelines developed by its committees, and by promoting their adoption and implementation by governments, Codex seeks to protect the health of consumers and ensure fair practices in the food trade.

The Terms of Reference of the Codex Committee on Residues of Veterinary Drugs in Foods (CCRVDF) are:

(a) to determine priorities for the consideration of residues of veterinary drugs in foods;

(b) to recommend maximum levels of such substances;

(c) to develop codes of practice as may be required; and,

(d) to consider methods of sampling and analysis for the determination of veterinary drug residues in foods.

The CCRVDF is hosted by the United States. The United States attends the CCRVDF as a member country of Codex.

Issues To Be Discussed at the Public Meeting

The following items from the Provisional Agenda for the 28th Session of the CCRVDF will be discussed during the public meeting:

• Matters referred by the CAC and other subsidiary bodies

• Matters of interest arising from international organizations, including the Joint Expert Committee on Food Additives (JECFA)

• Matters of interest arising from the Joint FAO/IAEA Centre of Nuclear Techniques in Food and Agriculture

• Matters of interest arising from the World Organisation for Animal Health (WOAH), including the Veterinary International Conference on Harmonization (VICH)

• MRLs for veterinary drugs arising from JECFA98 (2024) maximum residue limits (MRLs) for fumagillin dicyclohexylamine (DCH) in fish (fillet) and honey

• Extrapolated MRLs for different combinations of compounds/tissues

• Other matters related to the extrapolation of MRLs for veterinary drugs in foods to one or more species: Extrapolation to edible offal tissues other than liver and kidney

• Guidance for actions that competent authorities could take upon detection of residues of veterinary drugs in food of animal origin caused by the unavoidable and unintentional carryover of veterinary drugs in animal feed

• Action levels for different combinations of compounds/tissues

• Coordination of work between the Codex Committee on Pesticide Residues (CCPR) and CCRVDF

• Priority list of veterinary drugs for evaluation or re-evaluation by JECFA

• Other business and future work

Public Meeting

At the March 5, 2026, public meeting, agenda items and draft U.S. positions will be described and discussed, and attendees will have the opportunity to pose questions and offer comments. Written comments may be offered at the meeting or sent to Dr. Jonathan Greene, U.S. Delegate to the 28th Session of CCRVDF, at jonathan.greene1@fda.hhs.gov. Written comments should state that they relate to activities of the 28th Session of the CCRVDF.

Additional Public Notification

Public awareness of all segments of rulemaking and policy development is important. Consequently, the U.S. Codex Office will announce this Federal Register publication on-line through the USDA Codex web page located at: https://www.usda.gov/codex.

(Authority: 19 U.S.C. 2578; 7 CFR 2.602.)

Done at Washington, DC, on February 2, 2026.
Julie A. Chao,
Deputy U.S. Manager for Codex Alimentarius.

[FR Doc. 2026-02330 Filed 2-5-26; 8:45 am]

BILLING CODE 3420-3F-P